DEPARTMENT OF HOMELAND SECURITY

Coast Guard

33 CFR Part 165

[Docket No. USCG-2018-0703]

Safety Zone; Fleet Week Maritime Festival, Pier 66, Elliot Bay, Seattle, Washington

AGENCY: Coast Guard, DHS.

ACTION: Notice of enforcement of regulation.

SUMMARY: The Coast Guard will enforce the Fleet Week Maritime Festival's Pier 66 Safety Zone in Elliott Bay, WA on July 31, 2018. This action is necessary to promote the safety of personnel, vessels and the marine environment on navigable waters. During the enforcement period, entry into, transit through, mooring, or anchoring within this safety zone is prohibited unless authorized by the Captain of the Port, Puget Sound, or her designated representative.

DATES: The regulations in 33 CFR 165.1330 will be enforced from 8 a.m. until 8 p.m. on July 31, 2018.

FOR FURTHER INFORMATION CONTACT: If you have questions about this notice of enforcement, call or email Petty Officer Zachary Spence, Sector Puget Sound Waterways Management Division, U.S. Coast Guard; telephone (206) 217-6051, email SectorPugetSoundWWM@uscg.mil.

SUPPLEMENTARY INFORMATION: The Coast Guard will enforce the safety zone for the Fleet Week Maritime Festival in 33 CFR 165.1330, as amended by Temporary Final Rule (Docket Number USCG-2018-0656), from 8 a.m. until 8 p.m. on July 31, 2018 to ensure the safe completion of the Parade of Ships and associated aerial demonstrations. For the purpose of this notice of enforcement, the Parade of Ships includes both the pass and review of the ships near Pier 66 and the aerial demonstrations immediately before the pass and review. The Captain of the Port may be assisted by other federal, state, or local agencies as needed.

In accordance with the general regulations in 33 CFR part 165, subpart C, no vessel operator may enter, transit, moor, or anchor within this safety zone, except for vessels authorized by the Captain of the Port, Puget Sound or her designated representative. All vessel operators desiring entry into this safety zone shall gain prior authorization by contacting either the on-scene patrol craft on VHF Ch. 13 or Ch. 16, or Coast Guard Sector Puget Sound Joint Harbor Operations Center (JHOC) via telephone at (206) 217-6002. Vessel operators granted individual permission to enter this safety zone will be escorted by the on-scene patrol until no longer within the safety zone.

In addition to this notice of enforcement in the Federal Register, the Coast Guard will provide the maritime community with advanced notification of the safety zone via the Local Notice to Mariners and marine information broadcasts. If the Captain of the Port determines that the regulated area need not be enforced for the full duration stated in this notice of enforcement, he may use a Broadcast Notice to Mariners to grant general permission to enter the regulated area.

Dated: July 18, 2018.
M.M. Balding,
Captain, U.S. Coast Guard, Acting Captain of the Port, Puget Sound.

[FR Doc. 2018-15757 Filed 7-23-18; 8:45 am]

BILLING CODE 9110-04-P